ENVIRONMENTAL PROTECTION AGENCY

[FRL-7069-5]

Public Water System Supervision Program Revisions for the State of Indiana

AGENCY: Environmental Protection Agency.

ACTION: Notice.

SUMMARY: Public notice is hereby given in accordance with the provisions of section 1413 of the Safe Drinking Water Act, as amended, 42 U.S.C. 300g-2, and subpart B of 40 CFR. part 142, the National Primary Drinking Water Regulations (NPDWR), that the State of Indiana is revising its approved Public Water System Supervision (PWSS) primacy program. On December 8, 1999, the Indiana Department of Environmental Management (IDEM) adopted the NPDWR. On August 19, 1998, the U.S. Environmental Protection Agency (U.S. EPA) promulgated a final rule in 63 FR 44511-44536 requiring community water systems to prepare and provide customers annual Consumer Confidence Reports (CCRs). The U.S. EPA has reviewed Indiana's application to revise its PWSS primacy program in order to adopt the federal CCR rule.

On April 28, 1998, U.S. EPA also promulgated a final rule to revise the definition of “Public Water System” found at 42 U.S.C. 300f(4)(A), 63 FR 23361-23368. The U.S. EPA has completed its review of Indiana's application to revise its PWSS primacy program to conform with the revised definition of “Public Water System.”

The U.S. EPA has determined that the Indiana rules meet the requirements of the federal rules. Therefore, the U.S. EPA has determined that these State program revisions are no less stringent than the corresponding federal regulations, and is proposing to approve IDEM's rule revisions.

This proposed approval includes the entire adopted Indiana Consumer Confidence Report Rule and the Public Water System Definition.

All interested parties are invited to submit written comments on these proposed determinations, and may request a public hearing on or before October 29, 2001. If a public hearing is requested and granted, the corresponding determinations shall not became effective until such time following the hearing, at which the Regional Administrator issues an order affirming or rescinding this action.

Requests for public hearing should be addressed to: David Horak (WG-15J), U.S. Environmental Protection Agency, Region 5, 77 West Jackson Boulevard, Chicago, Illinois 60604-3590.

Any request for a public hearing shall include the following: (1) The name, address, and telephone number of the individual, organization, or other entity requesting a hearing; (2) a brief statement of the requesting person's interest in the Regional Administrator's determinations and of information that the requesting person intends to submit at such hearing; and (3) the signature of the individual making the request, or, if the request is made on behalf of an organization or other entity, the signature of a responsible official of the organization or other entity.

Notice of any hearing shall be given not less than fifteen (15) days prior to the time scheduled for the hearing. Such notice will be made by the Regional Administrator in the Federal Register and in newspapers of general circulation in the State of Indiana. A notice will be sent to the person(s) requesting the hearing as well as to the State of Indiana. The hearing notice will include a statement of purpose, information regarding the time and location, and the address and telephone number where interested persons may obtain further information. The Regional Administrator will issue an order affirming or rescinding his determination upon review of the hearing record. Should the determination be affirmed, it will become effective as of the date of the order.

Should no timely and appropriate request for a hearing be received, and should the Regional Administrator not elect to hold a hearing on his own motion, these determinations shall become effective on October 29, 2001. Please bring this notice to the attention of any persons known by you to have an interest in these determinations.

All documents related to these determinations are available for inspection between the hours of 8:30 a.m. and 4:30 p.m., Monday through Friday, at the following offices:

Indiana Department of Environmental Management, Office of Water Quality, Drinking Water Branch, 100 N. Senate Avenue, P.O. Box 6015, Indianapolis, Indiana 46206-6015

U.S. Environmental Protection Agency, Region 5, Ground Water and Drinking Water Branch (WG-15J), 77 West Jackson Boulevard, Chicago, Illinois 60604-3590

FOR FURTHER INFORMATION CONTACT: David Horak, Region 5, Ground Water and Drinking Water Branch, at the Chicago address given above, telephone (312) 353-4306.

(Section 1413 of the Safe Drinking Water Act, as amended (1996) , and 40 CFR 142.10 of the National Primary Drinking Water Regulations)

Dated: August 28, 2001.
Norman Niedergang,
Acting Regional Administrator, Region 5.

[FR Doc. 01-24375 Filed 9-27-01; 8:45 am]

BILLING CODE 6560-50-P